DEPARTMENT OF TRANSPORTATION

[Docket No. PHMSA-2019-0141]

Pipeline Safety; Information Collection Activities

AGENCY: Pipeline and Hazardous Materials Safety Administration (PHMSA), DOT.

ACTION: Notice and request for comments.

SUMMARY: In compliance with the Paperwork Reduction Act of 1995 (44 U.S.C. 3501 et seq.), this notice announces that the information collection request abstracted below is being forwarded to the Office of Management and Budget (OMB) for review and comment. PHMSA will request a revision to PHMSA F 7000-1 Accident Report—Hazardous Liquid Pipeline Systems identified by OMB control number 2137-0047. A Federal Register notice soliciting comments on this information collection was published on March 9, 2020, (85 FR 13700). PHMSA received comments which are summarized below.

DATES: Comments must be submitted on or before January 27, 2021.

ADDRESSES: Written comments and recommendations for the proposed information collection should be sent within 30 days of publication of this notice to www.reginfo.gov/public/do/PRAMain. You can find this information collection by selecting “Currently under 30-day Review—Open for Public Comments” or by using the search function.

Confidential Business Information

Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: For information regarding this notice contact Angela Hill, Transportation Specialist, by telephone at 202-366-1246, or by email at Angela.Hill@dot.gov.

SUPPLEMENTARY INFORMATION:

I. Background

Section 1320.8(d), title 5, Code of Federal Regulations, requires PHMSA to provide interested members of the public and affected entities an opportunity to comment on information collection and recordkeeping requests. This notice identifies proposed changes to an information collection that PHMSA will submit to OMB for approval. To streamline and improve the data collection processes, PHMSA is revising the form and instructions for PHMSA F 7000-1 Accident Report—Hazardous Liquid Pipeline Systems for hazardous liquid and carbon dioxide pipeline operators.

In response to the March 9, 2020, Federal Register notice and request for comment (85 FR 13700), PHMSA received comments from the Institute for Policy Integrity at New York University School of Law (Policy Integrity), from the American Petroleum Institute (API), and the Association of Oil Pipe Lines (AOPL). Comments recommending changes, organized by topic area, are summarized and addressed below:

1. Change Form Name: PHMSA received no comments pertaining to this change.

2. Time Zone and Daylight Savings: PHMSA received no comments pertaining to this change.

3. Operational Status: API/AOPL requested clarification of the phrase “operational status” and requested that PHMSA undertake a new rulemaking to correct an apparent discrepancy between PHMSA's August 16, 2016, Advisory Bulletin titled, “Clarification of Terms Relating to Pipeline Operational Status” (81 FR 54512) and recently published frequently asked questions concerning PHMSA's October 1, 2019, Final Rule titled, “Safety of Hazardous Liquid Pipelines” (84 FR 52260). As to “operational status”, PHMSA has included a description of each choice for operational status in the instructions for PHMSA F 7000-1 to provide clarification. PHMSA routinely updates its data collection forms to align with the regulations. If there are any changes to the definitions related to operational status of pipelines in the future, PHMSA will revise the reports as necessary.

4. Part A Reorganization and Detailed Questions About Accident Response: API/AOPL generally supported reorganizing Part A of the form, but recommended PHMSA clarify the term “identified,” which is used in Part E. API/AOPL opined that responses to questions regarding the “identification” of a pipeline failure are not uniform due to a lack of guidance and definition of the term. API/AOPL requested that PHMSA align the term with “confirmed discovery,” as defined in the Code of Federal Regulations, which “means when it can be reasonably determined, based on information available to the operator at the time a reportable event has occurred, even if only based on a preliminary evaluation.” PHMSA notes that proposed question A13, “Local time operator identified failure”, has been part of the report for many years and has not resulted in confusion. Further, the instructions provide guidance for properly determining the date and time identified in several scenarios. PHMSA will add date and time of “confirmed discovery” as a new question A20 since “confirmed discovery” occurs either concurrent with identifying the failure or later.

5. Multiple NRC Reports: API/AOPL proposed that PHMSA requires one master National Response Center (NRC) report that is linked to multiple NRC reports, arising from a single accident. Alternatively, API/AOPL proposed that PHMSA collect all the NRC report numbers for one accident in Part A6, allowing multiple numbers to be entered in one box, rather than create an additional question. API/AOPL also proposed that PHMSA provide instructions or guidance informing operators that this question includes the initial report and all subsequent reports. PHMSA has provided instructions making it clear that the initial NRC report is entered as a response to question A21b and all subsequent NRC reports are entered in response to question A21c. The response to question A21c is submitted via a text field so multiple NRC reports can be entered. PHMSA needs the initial NRC report number in a separate data field so it can be stored as a number and used in analysis.

6. Flow Control and Valve Closures: API/AOPL commented that the “current form provides adequate details on valve closures and shut-in response to an accident.” They opined that each accident is unique and response actions to address them may vary widely based on the pipeline system, the individual line affected, pipeline ROW versus facility release, etc. API/AOPL commented that the additional request for information regarding valve closures and shut-in responses on the form will likely result in several operators choosing “other” as a selection, which they say PHMSA is trying to avoid. Further, API/AOPL disagreed that adding more questions will allow stakeholders to understand the actions taken by the operator to control the flow of products while responding to an accident. They commented that additional questions may unintentionally cause confusion regarding which valve information to report. Finally, API/AOPL comment that PHMSA should distinguish between manual and remote-operated valves. PHMSA is proposing to collect data about the operator's initial upstream and downstream actions to control the flow of product to the failure site. There are only two options—valve closure or a text field explaining the method of operation control implemented. There is no option for “other.” The form and instructions clearly indicate to report the initial method of flow control. When a valve closure is the initial method, the operator also identifies the type of valve. PHMSA recognizes that valve closure is not always the appropriate method of flow control, which is why “operational control” was added. Finally, the terms “manual,” “automatic,” and “remotely controlled” have been in the report for several years without raising any concerns or presenting issues in practice. These are commonly used terms familiar to the operators. PHMSA also offers a pipeline glossary including types of valves.

7. Area of Accident: API/AOPL commented that clarity is needed regarding the term “underground.” They commented that PHMSA's proposal may not accurately capture operators' current processes. For instance, there may be locations on a pipeline that were originally buried but have become exposed over time, such as stream and ditch crossings, of which the operator is aware and manages as aboveground piping. API/AOPL commented that PHMSA should clarify the difference between underground and aboveground piping as it relates to an unforeseen loss of cover. They noted that the definition of underground should refer to the overall condition of the pipeline segment and not only the location where the accident occurred. PHMSA notes that the instructions provide definitions for both underground and aboveground pipe. The additional options under each provide more detail about the situations that should be reported for underground and aboveground pipe. PHMSA is collecting the data for the failure location, not for the overall pipeline segment. PHMSA also notes that this scenario, “pipelines that were originally buried but have become exposed over time—such as stream and ditch crossings—of which the operator is aware and manages as aboveground piping,” would be reported as aboveground and then specifying “in or spanning an open ditch.” Further, PHMSA notes that the form allows the selection of “other” after selecting either aboveground or underground to accommodate reporting in all possible scenarios.

8. Date of Water Crossing Evaluation: API/AOPL commented that more clarification is needed regarding the term “evaluation.” PHMSA concurs that the term “engineering/risk evaluation” is not well defined and is removing it from the form.

9. Outer Continental Shelf Regions: API/AOPL commented they are unclear as to what exactly will be required when reporting outer continental shelf (OCS) regions, as this information appears to currently be captured in Part B14 of the form. PHMSA currently captures OCS Area and Block Number as text fields. In the revision, PHMSA is also requiring one of the following to be reported: OCS Alaska, OCS Pacific, OCS Gulf of Mexico, or OCS Atlantic. In cases where OCS Area or Block Number are not recognized, PHMSA requires that the general area of the OCS accident be reported at a minimum.

10. Item Involved and Age of Failed Item: API/AOPL suggested PHMSA retain the selection of “unknown” for items of which age cannot be ascertained. Regarding “other” as a selection for “item involved,” API/AOPL suggested PHMSA change the option to “unknown” or “data not available.” PHMSA notes that the report has, and continues to, allow “unknown” as an option for both “date of manufacture” and “date of installation.” PHMSA sees no meaningful difference among “other,” “unknown,” and “data not available.” PHMSA plans to retain “other” as the final option for “item involved.”

11. Details About Consequences, Other injuries not requiring in-patient hospitalization: API/AOPL recommended that PHMSA provide the definition of injuries treated on-site or clarify whether operators should defer to the Occupational Safety and Health Administration's (OSHA) definition. Also, API/AOPL asked if the new categories of injuries will be classified as “Impacting People or the Environment” (IPE). PHMSA is requesting information in D10 for “Estimated number of persons with injuries requiring treatment by EMTs at the site of accident.” This terminology is readily understood in the context of a pipeline failure. Operators should not use any OSHA definition as they apply to work-related injuries only. PHMSA does not plan to consider the two new categories of injuries when determining IPE.

12. Details About Consequences, Volume of product consumed by fire: The Institute for Policy Integrity at New York University School of Law supported collecting “volume of product consumed by fire” to assess the social costs of accidents. API/AOPL argued that operators are unable to accurately determine or differentiate between the volume of product burned and the volume that evaporated. API/AOPL recommended that PHMSA not duplicate oversight with the Environmental Protection Agency (EPA) and defer to the EPA's jurisdiction under the Clean Air Act. PHMSA is requiring operators to estimate the volume of product consumed by fire. By gathering this data through accident reports, PHMSA enhances its regulatory cost and benefit estimates and improves its assessment of regulatory alternatives as required by the Executive Order 12866. PHMSA is not duplicating oversight of EPA's jurisdiction, rather PHMSA is complying with OMB's Circular A-4, which advises agencies to “monetize quantitative effects whenever possible” as required by Executive Order 12866.

13. Details About Consequences, Number of building affected by the accident: API/AOPL requested that PHMSA use the same classification/definition of building as prescribed in 49 CFR 192.903. PHMSA notes that this code section does not include building classifications. PHMSA proposes two categories of buildings—commercial and residential.

14. Establishing Maximum Pressure: API/AOPL asked that PHMSA rephrase the term “maximum pressure” to “maximum operating pressure (MOP)” in accordance with 49 CFR 195.406. Also, API/AOPL requested the PHMSA revise the form to ask whether the MOP was exceeded. Finally, API/AOPL opined that PHMSA should not seek MOP validity in the accident report and believes the information would be more appropriate in the National Pipeline Mapping System (NPMS) or the hazardous liquid and carbon dioxide annual report (Form F 7000.1-1). PHMSA has used MOP consistently throughout the accident report form and instructions. PHMSA's data collection software will determine if MOP was exceeded and the degree of exceedance. PHMSA considers the “limiting factor establishing MOP” as a critical piece of data about the failure location.

15. Length of Segment Isolated: API/AOPL asked for clarification regarding the term “isolated.” PHMSA's instructions clarify that this is only answered when the method of flow control is valve closure both upstream and downstream of the failure location. PHMSA will also add this clarification to the form.

16. External Corrosion and Stray Current: API/AOPL do not object to additional details regarding stray current, however, they note this information is generally not available within the 30-day requirement for accident reports. PHMSA notes that operators can submit an original accident report without the information in 2a and 2b and submit a supplemental report once the information becomes available.

17. Natural Force Damage Additional Sub-Cause: The API/AOPL do not believe that adding tree root damage to the form will significantly reduce the number of accidents reported as “Other Accident Cause.” PHMSA agrees that tree root damage to hazardous liquid pipelines may not significantly reduce the number of accidents reported as “Other Accident Cause.” PHMSA seeks to collect consistent cause codes for all pipeline systems for ease of data analysis and realizes that some of the detailed cause codes may be more relevant to a specific pipeline system type.

18. Excavation Details For All Excavation Damages: API/AOPL commented they are unclear as to what additional information will be collected for first- and second-party excavators. In the March 9, 2020 Notice, PHMSA incorrectly stated that data is collected only when the excavator is a third-party. In fact, the current accident report already collects data about all excavation damages. PHMSA now proposes to only collect data about the excavations in a structure matching the current Common Ground Alliance (CGA) Damage Information Reporting Tool (DIRT). PHMSA also proposes to add questions about exemptions from State damage prevention laws.

19. State Damage Prevention Law Exemption: API/AOPL recommended that PHMSA keep the excavation questions consistent with the information collected on the DIRT form. PHMSA's question on State Damage Prevention Law Exemption is not part of the CGA-DIRT and is applicable only to accidents where a third-party is identified as the cause of the accident. Data about exemptions is important to PHMSA and its State partners to assess instances where excavators have been exempted from notifying operators prior to excavating.

20. Material Failure Cause Changes: API/AOPL objected to adding a question that collects post-construction pressure test values since original pressure test information is often missing or unavailable. Further, without more information, API/AOPL do not see the value in providing this data. PHMSA concurs and will remove the question.

21. Additional Integrity Inspection Data: API/AOPL asked that PHMSA rephrase Part J “Integrity Inspection” to “Successful Integrity Inspection” or “Completed Integrity Inspection.” They noted this would ensure that operators only provide data on ILI tool runs that provided a consistent and complete data set. API/AOPL also asked PHMSA to add a list of direct assessment methods available to operators.

PHMSA has renamed Part J from “Integrity Inspections” to “Completed Integrity Inspections,” as suggested. PHMSA understands a “completed integrity inspection” to be when the tool has been successfully run and not when the remediation is completed.

The form currently includes two options for the type of direct assessment—“External Corrosion Direct Assessment” and “Other.” The selection for “Other” would include any “other technology” as determined by 195.452(j)(5)(iv) or 195.452(c)(1)(i)(D).

22. Contributing Factors: API/AOPL recommended that PHMSA modify Part K by adding an option for “no contributing factors” and emphasized that contributing factors are often not known until the completion of internal company analysis. PHMSA notes that making no selection in Part K is equivalent to “no contributing factors” and has not added the additional option recommended by API/AOPL. PHMSA will modify the form and instructions to emphasize that contributing factors are often not known until the completion of a root cause analysis. Supplemental reports are permitted as operators make determinations regarding contributing factors.

The following information is provided for this information collection: (1) Title of the information collection; (2) OMB control number; (3) Current expiration date; (4) Type of request; (5) Abstract of the information collection activity; (6) Description of affected public; (7) Estimate of total annual reporting and recordkeeping burden; and (8) Frequency of collection. PHMSA will request a three-year term of approval for this information collection activity. PHMSA requests comments on the following information:

1. Title: Transportation of Hazardous Liquids by Pipeline: Recordkeeping and Accident Reporting.

OMB Control Number: 2137-0047.

Current Expiration Date: 1/31/2023.

Type of Request: Revision.

Abstract: This information collection covers recordkeeping and accident reporting by hazardous liquid pipeline operators who are subject to 49 CFR part 195. Section 195.50 specifies the definition of an “accident” and the reporting criteria for submitting a Hazardous Liquid Accident Report (form PHMSA F7000-1) is detailed in § 195.54. PHMSA is proposing to revise the form and instructions for PHMSA F7000-1 for editorial and clarification purposes and to collect additional data. Currently, PHMSA estimates that 406 Hazardous Liquid Accident Report forms are submitted each year with operators spending, on average, 10 hours to complete each report. Due to the proposed changes, PHMSA expects the burden for completing each report to increase by 2 hours. This will result in an overall burden increase of 812 hours for this information collection.

Affected Public: Hazardous liquid pipeline operators.

Annual Reporting and Recordkeeping Burden:

Annual Responses: 1,644.

Annual Burden Hours: 53,504.

Comments to Office of Management and Budget are invited on:

(a) The need for the proposed information, including whether the information will have practical utility in helping the agency to achieve its pipeline safety goals;

(b) The accuracy of the agency's estimate of the burden of the proposed collection;

(c) Ways to enhance the quality, utility, and clarity of the information to be collected; and

(d) Ways to minimize the burden on those who are to respond, including the use of appropriate automated, electronic, mechanical, or other technological collection techniques.

Authority: The Paperwork Reduction Act of 1995; 44 U.S.C. Chapter 35, as amended; and 49 CFR 1.48.

Issued in Washington, DC, on December 16, 2020, under authority delegated in 49 CFR 1.97.
Alan K. Mayberry,
Associate Administrator for Pipeline Safety.

[FR Doc. 2020-28481 Filed 12-23-20; 8:45 am]

BILLING CODE 4910-60-P